DEPARTMENT OF THE INTERIOR

National Park Service

[NPS-WASO-NAGPRA- NPS0027602; PPWOCRADN0-PCU00RP14.R50000]

Notice of Inventory Completion: University of Georgia, Laboratory of Archaeology, Athens, GA

AGENCY: National Park Service, Interior.

ACTION: Notice.

SUMMARY: The University of Georgia, Laboratory of Archaeology has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of Georgia, Laboratory of Archaeology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of Georgia, Laboratory of Archaeology, at the address in this notice by May 24, 2019.

ADDRESSES: Amanda Thompson, University of Georgia, Laboratory of Archaeology, 1125 Whitehall Road, Athens, GA 30605, telephone (706) 542-8737, email arobthom@uga.edu.

SUPPLEMENTARY INFORMATION: Notice is here given in accordance with the Native American Graves Protection and Repatriation Act (NAGPRA), 25 U.S.C. 3003, of the completion of an inventory of human remains and associated funerary objects under the control of the University of Georgia, Laboratory of Archaeology, Athens, GA. The human remains and associated funerary objects were removed from Greene County, GA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by University of Georgia, Laboratory of Archaeology professional staff in consultation with representatives of The Muscogee (Creek) Nation.

History and Description of the Remains

In 2003-2004, human remains representing, at minimum, one individual were removed from site 9GE2084 in Greene County, GA. During an intensive survey, conducted by Southeastern Archeological Services from 2003-2004, a series of rock piles (9GE2084) was identified, and minimal excavations were conducted. One rock pile (Rock Pile C) was identified as prehistoric. As looting disturbance was also noted, the rock pile was cleared of debris and loose rocks, revealing human remains at the bottom of the pothole. Work was halted and Southeastern Archeological Services contacted the U.S. Army Corps of Engineers, Georgia Department of Natural Resources—Historic Preservation Division, and the Georgia Indian Council. After consultation, excavation with a 1x1 meter unit was conducted to further delineate the burial. The human remains and the associated funerary objects were transferred from Southeastern Archeological Services to the University of Georgia, Laboratory of Archaeology on December 20, 2016. The human remains, which consist of 80 bone fragments, include four teeth of a young adult, 16-22 years of age. No known individuals were identified. The 44 associated funerary objects are 16 sherds (less than ½ inch), two quartz tertiary flakes, two quartz flake fragments, and 24 sherds of a mended Lamar pottery vessel (9GE2084).

The geographical location of the burial within the historically documented territory of The Muscogee (Creek) Nation supports a cultural affiliation with The Muscogee (Creek) Nation.

Determinations Made by the University of Georgia, Laboratory of Archaeology

Officials of the University of Georgia, Laboratory of Archaeology have determined that:

• Pursuant to 25 U.S.C. 3001(9), the human remains described in this notice represent the physical remains of one individual of Native American ancestry.

• Pursuant to 25 U.S.C. 3001(3)(A), the 44 objects described in this notice are reasonably believed to have been placed with or near individual human remains at the time of death or later as part of the death rite or ceremony.

• Pursuant to 25 U.S.C. 3001(2), there is a relationship of shared group identity that can be reasonably traced between the Native American human remains and associated funerary objects and The Muscogee (Creek) Nation.

Additional Requestors and Disposition

Lineal descendants or representatives of any Indian Tribe or Native Hawaiian organization not identified in this notice that wish to request transfer of control of these human remains and associated funerary objects should submit a written request with information in support of the request to Amanda Thompson, University of Georgia, Laboratory of Archaeology, 1125 Whitehall Road, Athens, GA 30605, telephone (706) 542-8737, email arobthom@uga.edu, by May 24, 2019. After that date, if no additional requestors have come forward, transfer of control of the human remains and associated funerary objects to The Muscogee (Creek) Nation may proceed.

The University of Georgia, Laboratory of Archaeology is responsible for notifying The Muscogee (Creek) Nation that this notice has been published.

Dated: April 2, 2019.
Melanie O'Brien,
Manager, National NAGPRA Program.

[FR Doc. 2019-08230 Filed 4-23-19; 8:45 am]

BILLING CODE 4312-52-P